DEPARTMENT OF TRANSPORTATION

Federal Aviation Administration

Notice Before Waiver With Respect to Land at the Carroll County Regional Airport, Westminster, MD

AGENCY: Federal Aviation Administration (FAA), DOT.

ACTION: Notice of intent of waiver with respect to land.

SUMMARY: The FAA is publishing notice of proposed release of approximately thirteen (13) acres of land acquired with local funds at the Carroll County Regional Airport, Westminster, Maryland to the National Instrument, LLC. The airport will receive $1,168,298.80 in addition to protective easements and other considerations that will complement anticipated airport development. There are no impacts to the airport and the land is not needed for airport development as shown on the Airport Layout Plan.

DATES: Comments must be received on or before April 18, 2007.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Ms. Renny Manuel, Executive Director Winchester Regional Airport Authority, at the following address: Mr. Joseph R. Varrone, Administrator, Office of Performance Auditing and Special Projects, Carroll County Government, 225 North Center Street, Westminster, Maryland 21157-5194.

FOR FURTHER INFORMATION CONTACT: Mr. Terry Page, Manager, Washington Airports District Office, 23723 Air Freight lane, Suite 210, Dulles, VA 20166; telephone (703) 661-1354, fax (703) 661-1370, e-mail Terry.Page@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30-day public notice must be provided before the Secretary may waive any condition imposed on an interest in surplus property.

Issued in Chantilly, Virginia on March 5, 2007.
Terry J. Page,
Manager, Washington Airports District Office, Eastern Region.

[FR Doc. 07-1301 Filed 3-16-07; 8:45 am]

BILLING CODE 4910-13-M